DEPARTMENT OF LABOR

Employment and Training Administration

[TA-W-64,756]

Air Liquide Electronics U.S. LP, Dallas, TX; Notice of Termination of Investigation

Pursuant to Section 221 of the Trade Act of 1974, as amended, an investigation was initiated on December 22, 2008 in response to a petition filed by a company official on behalf of workers of Air Liquide Electronics U.S. LP, Dallas, Texas.

The petitioning group of workers is covered by an active certification (TA-W-63,747 as amended) which expires on August 20, 2010. Consequently, further investigation in this case would serve no purpose, and the investigation has been terminated.

Signed at Washington, DC this 13th day of January 2009.
Richard Church,
Certifying Officer, Division of Trade Adjustment Assistance.

[FR Doc. E9-1498 Filed 1-23-09; 8:45 am]

BILLING CODE 4510-FN-P